DEPARTMENT OF COMMERCE

International Trade Administration

[A-427-801, A-559-801]

Spherical Plain Bearings and Parts Thereof From France and Ball Bearings and Parts Thereof From Singapore: Rescission of Antidumping Duty Administrative Reviews

AGENCY: Import Administration, International Trade Administration, Department of Commerce.

ACTION: Notice of rescission of antidumping duty administrative reviews.

SUMMARY: On June 19, 2001, the Department of Commerce initiated administrative reviews of the antidumping duty order on ball bearings and parts thereof from Singapore for one manufacturer/exporter of the subject merchandise, NMB Singapore Ltd., Pelmec Industries (Pte.) Ltd., and NMB Technologies Corporation, and the antidumping duty order on spherical plain bearings and parts thereof from France, produced and exported by SKF France S.A., for the period May 1, 2000, through April 30, 2001. The Department is rescinding these reviews after receiving timely withdrawals from the parties requesting these reviews.

EFFECTIVE DATE: September 26, 2001.

FOR FURTHER INFORMATION CONTACT: Dunyako Ahmadu or Richard Rimlinger, AD/CVD Enforcement, Office 3, Import Administration International Trade Administration, U.S Department of Commerce, 14th Street and Constitution Avenue, NW., Washington, DC 20230; telephone (202) 482-0198 or (202) 482-4477, respectively.

The Applicable Statute

Unless otherwise indicated, all citations to the Tariff Act of 1930, as amended (“the Act”), are references to the provisions in effect as of January 1, 1995, the effective date of the Uruguay Round Agreements Act. In addition, unless otherwise indicated, all citations to the Department of Commerce's (the Department's) regulations are to the regulations at 19 CFR part 351 (2001).

Background

On May 31, 1001, NMB Singapore Ltd., Pelmec Industries (Pte) Ltd., and NMB Technologies Corporation (collectively “NMB/Pelmec”) requested that the Department conduct an administrative review of its shipments of ball bearings for the period May 1, 2000, through April 30, 2001, and SKF USA Inc., SKF France, and Sarma (collectively “SKF”) also requested that the Department conduct an administrative review of its shipments of spherical plain bearings during the period May 1, 2000, through April 30, 2001. On June 19, 2001, the Department published in the Federal Register a notice of initiation of these administrative reviews with respect to NMB/Pelmec and SKF, both for the period of May 1, 2000, through April 30, 2001. See Initiation of Antidumping and Countervailing Duty Administrative Reviews and Requests for Revocations in Part, 66 FR 32934-32936 (June 19, 2001).

On August 28, 2001, NMB/Pelmec withdrew its request for a review. Similarly, on September 7, 2001, SKF withdrew its request for a review. Furthermore, both NMB/Pelmec and SKF asked the Department to rescind the administrative reviews.

Rescission of Reviews

Pursuant to 19 CFR 351.213(d)(1), the Department will rescind an administrative review if a party that requested the review withdraws the request within 90 days of the date of publication of the notice of initiation of the requested review. Because NMB/Pelmec and SKF submitted their requests for rescission within the 90-day time limit and there were no requests for review from other interested parties, we are rescinding these reviews. As such, we will issue appropriate appraisement instructions directly to the Customs Service. This notice is an accordance with section 777(i) of the Act and 19 CFR 351.213(d)(4).

Dated: September 19, 2001.
Richard W. Moreland,
Deputy Assistant Secretary, Import Administration.

[FR Doc. 01-24082 Filed 9-25-01; 8:45 am]

BILLING CODE 3510-DS-M